SECURITIES AND EXCHANGE COMMISSION

Submission for OMB Review; Comment Request

Upon written request, copies available from: Securities and Exchange Commission, Office of Filings and Information Services, Washington, DC 20549.

Extension:

Rule 17f-1(b), SEC File No. 270-28, OMB Control No. 3235-0032.

Notice is hereby given that pursuant to the Paperwork Reduction Act of 1995 (44 U.S.C. 3501 et seq.), the Securities and Exchange Commission (“Commission”) has submitted to the Office of Management and Budget a request for extension of the previously approved collection of information discussed below.

• Rule 17f-1(b): Requirements for reporting and inquiry with respect to missing, lost, counterfeit, or stolen securities.

Rule 17f-1(b) requires approximately 26,000 entities in the securities industry to register in the Lost and Stolen Securities Program (“Program”). Registration fulfills a statutory requirement that entities report and inquire about missing, lost, counterfeit, or stolen securities. Registration also allows entities in the securities industry to gain access to a confidential database that stores information for the Program.

We estimate that 1,000 entities will register in the Program annually and that each respondent will register one time. The staff estimates that the average number of hours necessary to comply with the rule 17f-1(b) is one-half hour. The total burden is therefore 500 hours (1,000 times one-half) annually for all respondents. The average cost per hour is approximately $50. Therefore, the total cost of compliance for each respondent is $25,000 (500 times $50).

Rule 17f-1(b) is a reporting rule and does not specify a retention period. The rule requires a one-time registration for reporting institutions. Registering under rule 17f-1(b) is mandatory to obtain the benefit of a central database that stores information about missing, lost, counterfeit, or stolen securities for the Program. Reporting institutions required to register under rule 17f-1(b) will not be kept confidential; however, the Program database will be kept confidential.

Please note that an agency may not conduct or sponsor, and a person is not required to respond to, a collection of information unless it displays a currently valid control number.

General comments regarding the estimated burden hours should be directed to the following persons: (i) Desk Officer for the Securities and Exchange Commission, Office of Information and Regulatory Affairs, Office of Management and Budget, Room 10102, New Executive Office Building, Washington, DC, 20503; and (ii) Kenneth A. Fogash, Acting Associate Executive Director/CIO, Office of Information Technology, Securities and Exchange Commission, 450 Fifth Street, NW., Washington, DC 20549. Comments must be submitted to OMB within 30 days of this notice.

Dated: August 19, 2003.
Margaret H. McFarland,
Deputy Secretary.

[FR Doc. 03-21820 Filed 8-25-03; 8:45 am]

BILLING CODE 8010-01-P